DEPARTMENT OF LABOR

Employment and Training Administration

[TA-W-73,199]

Dow Jones & Company, Sharon Pennsylvania Print Plant a Subsidiary of News Corporation, West Middlesex, Pennsylvania; Notice of Negative Determination Regarding Application for Reconsideration

By application dated June 21, 2010, a petitioner requested administrative reconsideration of the Department's negative determination regarding eligibility to apply for Trade Adjustment Assistance (TAA), applicable to workers and former workers of the subject firm. The determination was signed on May 21, 2010. The Department's Notice of determination was published in the Federal Register on June 7, 2010 (75 FR 32224). The workers are engaged in the production of print publications.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative determination of the TAA petition filed on behalf of workers at Dow Jones & Company, Sharon Pennsylvania Print Plant, a subsidiary of News Corporation, West Middlesex, Pennsylvania, was based on the finding that the workers' separations were not related to an increase in imports of print publications or a shift in production of print publications to a foreign country, nor did the workers produce a component part that was used by a firm that employed a worker group currently eligible to apply for TAA.

In the request for reconsideration the petitioner stated that the workers of the subject firm should be eligible for TAA because the “plates and film came from a company currently approved for TRA, Konica” and that those plates and film directly impacted the subject firm's production.

Increased imports of component parts, tools, or equipment related to the production of printed publications cannot be a basis for TAA certification under Section 222(a)(2)(A) because the statute requires either increased imports of articles like or directly competitive with articles produced by the workers' firm, increased imports of articles like or directly competitive with articles into which one or more component parts produced by the workers' firm are directly incorporated, or increased imports of articles like or directly incorporating one or more component parts produced outside of the United States that are like or directly competitive with imports of articles incorporating one or more component parts produced by the workers' firm.

During the initial investigation, the Department inquired into the allegation that “As of July 2010 our film used to produce the newspaper and made in Japan will no longer be manufactured anywhere.” The investigation confirmed that the subject firm produced print publications and revealed that, while there is a general decline of the film manufacturing industry, the separations at the subject firm are unrelated to increased imports of articles like or directly competitive with the print publications produced at the subject firm or a shift of production to a foreign country, or acquisition from a foreign country, of articles like or directly competitive with the print publications produced at the subject firm.

In the request for reconsideration, the petitioner alleges that the subject workers are eligible to apply for TAA as adversely affected secondary workers.

The petitioning workers do not meet the criteria set forth in Section 222(c) because the subject firm neither supplied component parts for the product made by a firm that employed a worker group that is currently eligible to apply for TAA (Konica) nor engaged in a further stage of production of the articles produced by a firm that employed a worker group that is currently eligible to apply for TAA (Konica). Neither of those relationships exists between Dow Jones & Company, West Middlesex, Pennsylvania, and any Konica facility.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 9th day of July 2010.
Del Min Amy Chen,
Certifying Officer, Division of Trade Adjustment Assistance.

[FR Doc. 2010-18191 Filed 7-23-10; 8:45 am]

BILLING CODE 4510-FN-P